DEPARTMENT OF ENERGY

Federal Energy Regulatory Commission

Combined Notice of Filings #1

Take notice that the Commission received the following electric corporate filings:

Docket Numbers: EC19-136-000.

Applicants: Consolidated Edison Company of New York, Inc.

Description: Application for Authorization Under Section 203 of the Federal Power Act of Consolidated Edison Company of New York, Inc.

Filed Date: 9/6/19.

Accession Number: 20190906-5142.

Comments Due: 5 p.m. ET 9/27/19.

Take notice that the Commission received the following electric rate filings:

Docket Numbers: ER10-1521-005; ER10-1520-005; ER10-1522-004.

Applicants: Occidental Power Marketing, L.P., Occidental Power Services, Inc., Occidental Chemical Corporation.

Description: Notice of Non-Material Change in Status of the Occidental MBRA Entities.

Filed Date: 9/9/19.

Accession Number: 20190909-5026.

Comments Due: 5 p.m. ET 9/30/19.

Docket Numbers: ER19-1837-001.

Applicants: California Independent System Operator Corporation.

Description: Compliance filing: 2019-09-06 Compliance Filing re ER19-1837 Tariff Clarifications Amendment to be effective 8/12/2019.

Filed Date: 9/6/19.

Accession Number: 20190906-5103.

Comments Due: 5 p.m. ET 9/27/19.

Docket Numbers: ER19-2105-001.

Applicants: Appalachian Power Company, PJM Interconnection, L.L.C.

Description: Tariff Amendment: PJM TOs submit response to the Commission's 8/8/2019 Deficiency Letter to be effective 8/10/2019.

Filed Date: 9/6/19.

Accession Number: 20190906-5128.

Comments Due: 5 p.m. ET 9/27/19.

Docket Numbers: ER19-2457-001.

Applicants: Midcontinent Independent System Operator, Inc.

Description: Tariff Amendment: 2019-09-09_SA 3333 ITC-DTE Electric Substitute GIA (J793) to be effective 7/11/2019.

Filed Date: 9/9/19.

Accession Number: 20190909-5027.

Comments Due: 5 p.m. ET 9/30/19.

Docket Numbers: ER19-2767-000.

Applicants: Massachusetts Electric Company.

Description: § 205(d) Rate Filing: 2019 Rate Update Filing for Massachusetts Electric Borderline Sales Agreement to be effective 11/1/2017.

Filed Date: 9/6/19.

Accession Number: 20190906-5125.

Comments Due: 5 p.m. ET 9/27/19.

Docket Numbers: ER19-2768-000.

Applicants: Portland General Electric Company.

Description: § 205(d) Rate Filing: Att K Revision Filing to be effective 1/1/2020.

Filed Date: 9/6/19.

Accession Number: 20190906-5127.

Comments Due: 5 p.m. ET 9/27/19.

Docket Numbers: ER19-2769-000.

Applicants: Potomac Electric Power Company.

Description: Application to Recover Abandoned Plant Costs of Potomac Electric Power Company.

Filed Date: 9/6/19.

Accession Number: 20190906-5143.

Comments Due: 5 p.m. ET 9/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2019.
Nathaniel J. Davis, Sr.,
Deputy Secretary.

[FR Doc. 2019-19825 Filed 9-12-19; 8:45 am]

BILLING CODE 6717-01-P